FEDERAL COMMUNICATIONS COMMISSION

47 CFR Parts 1, 2 and 95

[ET Docket No. 03-137; Report No. 2988]

Petition for Reconsideration of Action in Rulemaking Proceeding

AGENCY: Federal Communications Commission.

ACTION: Petition for reconsideration.

SUMMARY: In this document, a Petition for Reconsideration has been filed in the Commission's Rulemaking proceeding by Ivanna Yang on behalf of American Association for Justice.

DATES: Oppositions to the Petitions must be filed on or before September 11, 2013. Replies to an opposition must be filed on or before September 23, 2013.

ADDRESSES: Federal Communications Commission, 445 12th Street SW., Washington, DC 20554.

FOR FURTHER INFORMATION CONTACT: Martin Doczkat, Office of Engineering and Technology, 202-418-2435, Martin.Doczkat@fcc.gov.

SUPPLEMENTARY INFORMATION: This is a summary of Commission's document, Report No. 2988, released July 31, 2013. The full text of Report No. 2988 is available for viewing and copying in Room CY-B402, 445 12th Street SW., Washington, DC or may be purchased from the Commission's copy contractor, Best Copy and Printing, Inc. (BCPI) (1-800-378-3160). The Commission will not send a copy of this Notice pursuant to the Congressional Review Act, 5 U.S.C. 801(a)(1)(A), because this Notice does not have an impact on any rules of particular applicability.

Subjects: Proposed Changes in the Commission's Rules Regarding Human Exposure to Radiofrequency Electromagnetic Fields, FCC 13-39, published at 78 FR 33634, June 4, 2013, in ET Docket No. 03-137, published pursuant to 47 CFR 1.429(e). See also section 1.4(b)(1) of the Commission's rules.

Number of Petitions Filed: 1.

Federal Communications Commission.
Marlene H. Dortch,
Secretary, Office of the Secretary, Office of Managing Director.

[FR Doc. 2013-20695 Filed 8-26-13; 8:45 am]

BILLING CODE 6712-01-P